FEDERAL COMMUNICATIONS COMMISSION

Notice of Public Information Collection Being Submitted to the Office of Management and Budget for Review and Approval, Comments Requested

September 28, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments on November 2, 2009. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your comments by e-mail send then to: PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: Judith B. Herman, 202-418-0214. For additional information about the information collection(s) send an e-mail to PRA@fcc.gov or contact Judith B. Herman, 202-418-0214.

SUPPLEMENTARY INFORMATION: OMB Control No: 3060-0233.

Title: Part 36, Separations.

Form No.: N/A.

Type of Review: Extension of a currently approved collection.

Respondents: Business or other for-profit.

Number of Respondents: 1,997 respondents; 7,562 responses.

Estimated Time Per Response: 5 - 22 hours.

Frequency of Response: On occasion, annual and quarterly reporting requirements and third party disclosure requirements.

Obligation to Respond: Required to obtain or retain benefits. Statutory authority for information collection is contained in 47 U.S.C. sections 151, 154(i), and (j), 221(c) and 410(c).

Total Annual Burden: 71,283 hours.

Privacy Act Impact Assessment: N/A

Nature and Extent of Confidentiality: No assurance of confidentiality has been given regarding the information.

Need and Uses: The Commission will submit this information collection to the Office of Management and Budget (OMB) during this 30 day comment period in order to obtain the full three year clearance from them. The Commission is requesting an extension (no change in the reporting and/or third party disclosure requirements) of this information collection. There is a change in the estimated respondents/responses and the annual burden hours. The Commission is reporting a 1,774 adjusted increase in the number of responses and a 12,865 hour increase in the total annual burden hours.

In order to determine which carriers are entitled to universal service support, all (both rural and non-rural) incumbent local exchange carriers(LECs) must provide the National Exchange Carrier Association (NECA) with the loop cost and loop count data required by 47 CFR 63.611 of the Commission's rules for each of its study areas and, if applicable, for each wire center (that term is defined in 47 CFR Part 54).

Loops are the telephone lines running from the carrier's switching facilities to the customer. The loop cost and loop count information is to be field annually with NECA by July 31st of each year, and may be updated quarterly pursuant to 47 CFR 63.612. Pursuant to section 36.613, the information filed on July 31st of each year will be used to calculate universal service support for each study area and is filed by NECA with the Commission by October 1 of each year. An incumbent LEC is define as a carrier that meets the definition of “incumbent local exchange carrier” in 47 CFR 51.5 of the Commission's rules.

Section 63.612(a) also requires non-rural carriers to file loop counts (no loop cost data) on a quarterly basis. The Commission requires that non-rural carriers submit quarterly loop counts in order to ensure that universal service fund (USF) support for non-rural carriers is accurately calculated when competitive eligible telecommunications carriers (ETCs) are present in the incumbent LECs' operating areas. Quarterly loop cost and loop count data filings are voluntary for rural carriers. When a competitive ETC, however, is operating in an incumbent rural carrier's territory, the incumbent rural carrier is required to submit quarterly loop count data. Quarterly filings of loop counts are necessary because if an incumbent rural carrier does not update its loop count data more often than annually, but its competitor does, the competitor's more recent data may include loops captured from the incumbent since the incumbent's last filing. Thus, the incumbent would continue to receive USF support at the same per line support amount that the incumbent LEC receives in the same operating territory. In order to receive such support, the competitive ETC must file loop count data with the USAC on a quarterly basis.

The reporting requirements are necessary to implement the congressional mandate for universal service. The requirements are necessary to verify that rural and non-rural LECs are eligible to receive universal service support. Information filed with NECA pursuant to section 36.611 is used to calculate universal service support payments to eligible carriers. Without this information, NECA and USAC (Universal Service Administration Company) would not be able to calculate such payments to eligible carriers.

Federal Communications Commission.
Marlene H. Dortch,
Secretary.

[FR Doc. E9-23768 Filed 10-1-09; 8:45 am]

BILLING CODE: 6712-01-S